NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on February 5-7, 2004, 11545 Rockville Pike, Rockville, Maryland. The date of this meeting was previously published in the Federal Register on Monday, November 21, 2003 (68 FR 65743).

Thursday, February 5, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: ESBWR Design—Thermal-Hydraulic Issues (Open/Closed)—The Committee will hear presentations by and hold discussions with representatives of the NRC staff on the use of the TRAC-G computer code to perform analyses of the Economic Simplified Boiling Water Reactor (ESBWR) design.

Note: A portion of this session may be closed to discuss General Electric proprietary information applicable to this matter.

10:45 a.m.-11:45 a.m.: South Texas Project Cause Investigation of the Reactor Vessel Bottom Mounted Penetration Leakage (Open)—The Committee will hear presentations by and hold discussions with representatives of the NRC staff regarding the South Texas Project investigation of the cause of the leakage from reactor vessel bottom mounted penetration.

12:45 p.m.-2:45 p.m.: Resolution of Certain Items Identified by the ACRS in NUREG-1740 Related to the Differing Professional Opinion (DPO) on Steam Generator Tube Integrity (Open)—The Committee will hear presentations by and hold discussions with representatives of the NRC staff regarding the staff's resolution of certain items identified by the ACRS in NUREG-1740, “Voltage-Based Alternative Repair Criteria,” related to the DPO on steam generator tube integrity, as well as the status of resolution of the remaining items.

3 p.m.-4 p.m.: Evaluation of the Effectiveness (Quality) of the NRC Safety Research Programs (Open)—The Committee will discuss a proposed approach for the ACRS evaluation of the effectiveness (quality) of the NRC Safety Research Programs.

4 p.m.-7 p.m.: Preparation of ACRS Reports (Open)—The Committee will discuss proposed ACRS reports on matters considered during this meeting as well as a proposed report on the NRC Safety Research Program.

Friday, February 6, 2004, Conference Room T-2B3, Two White Flint North, Rockville, Maryland

8:30 a.m.-8:35 a.m.: Opening Remarks by the ACRS Chairman (Open)—The ACRS Chairman will make opening remarks regarding the conduct of the meeting.

8:35 a.m.-12:30 p.m.: ACRS Report on the NRC Safety Research Program (Open)—The Committee will discuss the draft ACRS report to the Commission on the NRC Safety Research Program.

1:30 p.m.-2 p.m.: Subcommittee Report—ACR-700 Design (Open)—The Committee will hear a report by and discussions with the Chairman of the ACRS Subcommittee on Future Plant Designs regarding the Subcommittee's review of the design features of the ACR-700 design and related matters.

2 p.m.-3 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

3 p.m.-3:15 p.m.: Reconciliation of ACRS Comments and Recommendations (Open)—The Committee will discuss the responses from the NRC Executive Director for Operations (EDO) to comments and recommendations included in recent ACRS reports and letters. The EDO responses are expected to be made available to the Committee prior to the meeting.

3:30 p.m.-7 p.m.: Preparation of ACRS Reports (Open)—The Committee will discuss proposed ACRS reports on matters considered during this meeting.

Saturday, February 7, 2004, Conference Room T-2B3, Two White Flint North, Rockville, Maryland

8:30 a.m.-12 Noon: Preparation of ACRS Reports (Open)—The Committee will discuss proposed ACRS reports on matters considered during this meeting.

12 Noon-12:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director for Technical Support prior to the meeting. In view of the possibility that the schedule for ACRS meetings may be adjusted by the Chairman as necessary to facilitate the conduct of the meeting, persons planning to attend should check with the Associate Director for Technical Support if such rescheduling would result in major inconvenience.

In accordance with subsection 10(d) Public Law 92-463, I have determined that it is necessary to close a portion of this meeting noted above to discuss General Electric proprietary information pursuant to 5 U.S.C. 552b(c)(4).

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

Dated: January 14, 2004.
Annette Vietti-Cook,
Secretary of the Commission.

[FR Doc. 04-1174 Filed 1-20-04; 8:45 am]

BILLING CODE 7590-01-P